DEPARTMENT OF HEALTH AND HUMAN SERVICES

Administration for Community Living

Agency Information Collection Activities; Proposed Collection; Public Comment Request; Revision of a Currently Approved Information Collection (ICR-Rev) (OMB Approval Number 0985-0004); Maintenance of Effort for Title III and Extension of, and Minor Revisions Due to Statutory Language Changes to the Certification of Long-Term Care Ombudsman Program Expenditures

AGENCY: Administration for Community Living, HHS.

ACTION: Notice.

SUMMARY: Under the PRA, Federal agencies must obtain approval from the Office of Management and Budget (OMB) for each collection of information they conduct or sponsor. The Administration for Community Living (ACL) is announcing that the proposed collection of information listed above has been submitted to the Office of Management and Budget (OMB) for review and clearance as required under section 506(c)(2)(A) of the Paperwork Reduction Act of 1995 (the PRA). This 30-Day notice requests comments on the information collection requirements related to the proposed revision of an existing data collection regarding the information collection requirements in the Maintenance of Effort collection form for all ACL/AoA Title III Grantees.

DATES: Submit written or electronic comments on the collection of information by November 22, 2017.

ADDRESSES: Submit written comments on the collection of information: By fax at 202.395.5806 or by email to OIRA_submission@omb.eop.gov, Attn: OMB Desk Officer for ACL.

FOR FURTHER INFORMATION CONTACT: Jesse Moore at (202) 795-7578 or Jesse.Moore@acl.hhs.gov.

SUPPLEMENTARY INFORMATION: In compliance with Section 44 U.S.C. 3507, ACL has submitted the following proposed collection of information to OMB for review and clearance. ACL is requesting approval for three years of an extension of the currently approved data collection with modifications.

The Certification of Maintenance of Effort under Tittle III and Certification of Long-Term Care Ombudsman (LTCO) Program Expenditures provide statutorily required information regarding each state's contribution to programs funded under the Older Americans Act and compliance with legislative requirements, pertinent Federal regulations, and other applicable instructions and guidelines issued by ACL.

In addition to renewing OMB approval of these data collection instruments, minor changes are being proposed to the LTCO Expenditures Certification and an accompanying document which provides specific statutory references related to Ombudsman program minimum funding, non-supplanting requirements, and state authorization to expend Title III-B funds on Ombudsman activities. Specifically, changes include making the reference to the Fiscal Year at the bottom of the form a fillable field to allow the date to be changed annually; listing the “Administration for Community Living (ACL)” as the intended recipient of the completed form; and updating statutory language references, i.e., Section 306(a)(9), which is provided on the second page, to reflect changes made during the 2016 reauthorization of the OAA.

Comments in Response to the 60-Day Federal Register Notice

A 60-Day notice was published in the Federal Register in Vol. 82, No. 137, on June 19, 2017. No comments were received.

Annual Burden Estimates

ACL estimates the burden of this collection of information as follows: 56 State Agencies on Aging respond annually, and it takes each agency an average of one half (½) hour per State agency per year to complete each form for a total of twenty-eight hours for all state agencies annually. The half hour estimate is based on prior years' experience with States in completing these forms.

The proposed data collection tool may be found on the ACL Web site for review at: https://www.acl.gov/about-acl/public-input.

Respondent/data collection activity | Number of respondents | Responses per respondent | Hours per response | Annual burden hours
Certification on Maintenance of Effort under Title III | 56 | 1/year | ½ | 28
Certification of Long-Term Care Ombudsman Program Expenditures | 56 | 1/year | ½ | 28
Total | 112 | 2 | 1 | 56

Dated: October 12, 2017.
Mary Lazare,
Principal Deputy Administrator.

[FR Doc. 2017-22914 Filed 10-20-17; 8:45 am]

BILLING CODE 4154-01-P